DEPARTMENT OF INTERIOR

Fish and Wildlife Service

[FWS-R8-FAC-2014-N224]

Notice of Intent To Conduct Public Scoping and Prepare an Environmental Impact Statement/Environmental Impact Report Regarding the Delta Research Station—Estuarine Research Station and Fish Technology Center Project

AGENCY: Fish and Wildlife Service, Interior.

ACTION: Notice of intent.

SUMMARY: Pursuant to the National Environmental Policy Act (NEPA) of 1969, as amended, and the California Environmental Quality Act (CEQA) and State CEQA Guidelines, the U.S. Fish and Wildlife Service (USFWS) and the California Department of Water Resources (DWR) intend to prepare a joint Environmental Impact Statement/Environmental Impact Report (EIS/EIR) to evaluate impacts regarding construction and operation of the Delta Research Station (DRS) in the San Francisco Bay/Sacramento-San Joaquin Delta Estuary (Bay-Delta), California. The planned DRS would consist of two facilities, a proposed Estuarine Research Station (ERS) and Fish Technology Center (FTC). The USFWS will be the lead Federal agency responsible for coordinating the environmental analysis for the proposed action under NEPA. DWR will be the lead State agency responsible for coordinating the environmental analysis under CEQA. With this notice, USFWS and DWR are announcing the beginning of the scoping process to solicit public comments and identify issues.

DATES: This notice initiates the public scoping processes for the EIS/EIR. Comments on issues must be submitted in writing and postmarked January 9, 2015. Two scoping meetings will be held during the scoping period, one in Rio Vista and one in Stockton. The dates and locations of these scoping meetings will be announced at least 15 days in advance through the project Web site at www.deltaresearchstation.com.

ADDRESSES: Comments and requests for information related to the preparation of the EIS/EIR should be sent to USFWS, Attn: Barbara Beggs, 650 Capitol Mall Suite 8-300, Sacramento, CA 95691; and/or emailed to barbara_beggs@fws.gov.

FOR FURTHER INFORMATION CONTACT: Barbara Beggs, USFWS, at 916-930-5637.

SUPPLEMENTARY INFORMATION:

Overview of the DRS

USFWS and DWR are currently planning development of the DRS, a science and research center in the Bay-Delta, which would consolidate a number of existing and new activities into the proposed ERS and FTC and bring together Federal and State agency staff working on similar Bay-Delta issues.

Project Purpose

The purpose of the DRS is to enhance interagency coordination and collaboration by developing a shared research facility. The DRS would advance the interests of researchers, local communities, and others that are dependent on the Bay-Delta. The DRS is needed because current Federal and State agency staff working on similar Bay-Delta issues are spread out in different locations, located in areas remote from the Bay-Delta, or have limited resources, inhibiting efficient research and monitoring efforts and collaboration.

The specific objectives of each component of the DRS are as follows:

• ERS—

○ Establish a research station in a central location within the Bay-Delta to facilitate ease of conducting monitoring and research; and

○ Co-locate the research station with a facility capable of studying fish in captivity (i.e., the FTC); and

○ Provide facilities to conduct monitoring and research on the Bay-Delta's aquatic resources.

• FTC—

○ Develop captive propagation technologies for the Bay-Delta's rare fish species;

○ Test and refine the captive propagation techniques;

○ Locate the facility where suitable water quality and quantity are available, and ability to discharge waste water given its various functions and operations is available; and

○ Co-locate the FTC with a facility conducting conservation research on Bay-Delta rare fish species (i.e., the ERS).

Proposed Action and Alternatives

At this time, USFWS and DWR are proposing development of the ERS and FTC, as these facilities would be co-located with one another and potentially built at the same time. Collectively, these facilities are referred as the proposed action. Currently, three potential alternatives plus the no action/no project alternative are being considered for the proposed ERS and FTC. The first two potential alternatives involve locating the facilities at the Rio Vista Army Base in the City of Rio Vista, with each alternative representing a different site configuration within the base. The third alternative is to locate the facilities in the City of Stockton, California. All alternatives would be evaluated at an equal level of detail in the EIS/EIR. Below is a description of the two proposed facilities.

Proposed Facilities

The ERS would be a center for research and study of the Bay-Delta ecosystem. The ERS would provide improved and additional facilities for science and research activities and would consolidate over 160 State and Federal employees from the Interagency Ecological Program (IEP). The IEP is a multi-agency cooperative effort to provide ecological information to support management of the Bay-Delta. The IEP monitors, researches, models, and synthesizes critical information in the Bay-Delta to support water management and planning and protection of fish and aquatic ecosystems. ERS facilities would include office and workspace, wet and dry laboratory facilities, warehouse and boat storage space, a marina, and a vehicle and boat repair shop. Laboratory facilities would include optical equipment (e.g., microscopes), fume hoods, computer stations, and water tanks of various sizes for processing of field samples and experimental studies of fish and ecology. The ERS would also include a dry electrical lab to house electronic sensing, monitoring, and telecommunications equipment used to monitor tagged fish and the estuarine environment. The ERS would be managed by DWR.

The FTC would be a center for propagation, research, conservation, and study of rare Bay-Delta fishes. The FTC is also intended to house and maintain a refugial population of rare fish species (i.e., captively raised fish). The FTC would include research and study facilities, an office and administration building, a shop and vehicle storage building, a water treatment facility for surface water, and an effluent treatment facility. The FTC would include separate aquaculture and research components for individual study species and a laboratory space to support water quality, genetic, and fish health analysis. The FTC would be managed by USFWS and would be sited immediately adjacent to the ERS.

Statutory Authority

NEPA (42 U.S.C. 4321 et seq.) requires that Federal agencies conduct an environmental analysis of their proposed actions to determine if the actions may significantly affect the human environment. Under NEPA and its implementing regulations (40 CFR 1500 et seq.), a reasonable range of alternatives to the proposed action is developed and considered in the EIS/EIR. In addition, the EIS/EIR will identify potentially significant direct, indirect, and cumulative effects, and possible mitigation for those significant effects on environmental issues that could occur with implementation of the proposed action.

Identification of Environmental Issues

The EIS/EIR will evaluate potential environmental impacts from the ERS and FTC. This notice is intended to inform agencies and the public of the potential environmental impacts of the facilities, and to solicit comments and suggestions for consideration in the preparation of the EIS/EIR. To help the public frame its comments, the following is a list of several potential environmental issues that USFWS and DWR have identified for analysis:

1. Aesthetics

2. Air Quality and Greenhouse Gas Emissions

3. Biological Resources—Terrestrial

4. Biological Resources—Fisheries

5. Cultural Resources

6. Geology and Soils

7. Hazards and Hazardous Materials

8. Hydrology and Water Quality

9. Land Use and Planning

10. Noise

11. Population and Housing

12. Public Services, Utilities, and Energy

13. Socioeconomics and Environmental Justice

14. Traffic and Transportation

Request for Comments

Environmental review of the EIS/EIR will be conducted in accordance with the requirements of NEPA (42 U.S.C. 4321 et seq.), its implementing regulations (40 CFR parts 1500-1508), other applicable regulations, and the USFWS' procedures for compliance with those regulations; and according to the requirements of CEQA (PRC Section 21000 et seq.) and State CEQA Guidelines (California Code of Regulations Title 14 Section 15000 et seq.). This notice is being furnished in accordance with 40 CFR 1501.7 and 1508.22 to obtain suggestions and information from interested agencies, organizations, Native American Tribes, and members of the public on the scope of issues and alternatives that will be addressed in the EIS/EIR. The primary purpose of the scoping process is to identify important issues raised by the public related to development of the proposed action. Written comments from interested parties are invited to ensure that the full range of issues related to the development of the proposed action is identified. Comments during this stage of the scoping process will only be accepted in written form. All comments received, including names and addresses, will become part of the official administrative record and may be made available to the public.

Public Availability of Comments

Before including your address, phone number, email address, or other personal identifying information in your comment, you should be aware that your entire comment—including your personal identifying information—may be made publicly available at any time. While you can ask us in your comment to withhold your personal identifying information from public review, we cannot guarantee that we will be able to do so.

Next Steps

After this scoping process, USFWS and DWR will review public comments and then prepare and make publicly available a draft EIS/EIR for comment.

Alexandra Pitts,
Deputy Regional Director, Pacific Southwest Region, Fish and Wildlife Service.

[FR Doc. 2014-28891 Filed 12-9-14; 8:45 am]

BILLING CODE P